DEPARTMENT OF ENERGY

Federal Energy Regulatory Commission

[Project No. 1855-050]

Notice of Application Accepted for Filing, Soliciting Motions To Intervene and Protests, Ready for Environmental Analysis, and Soliciting Comments, Recommendations, Preliminary Terms and Conditions, and Preliminary Fishway Prescriptions; Great River Hydro, LLC

Take notice that the following hydroelectric application has been filed with the Commission and is available for public inspection.

a. Type of Application: New Major License.

b. Project No.: 1855-050.

c. Date Filed: May 1, 2017; material amendment filed December 7, 2020.

d. Applicant: Great River Hydro, LLC (Great River Hydro).

e. Name of Project: Bellows Falls Hydroelectric Project (project).

f. Location: The project is located on the Connecticut River in Windsor and Windham Counties, Vermont, and Sullivan and Cheshire Counties, New Hampshire.

g. Filed Pursuant to: Federal Power Act 16 U.S.C. 791(a)-825(r).

h. Applicant Contact: John Ragonese, FERC License Manager, Great River Hydro, LLC, 40 Pleasant Street, Suite 202, Portsmouth, NH 03801; (603) 498-2851 or jragonese@greatriverhydro.com.

i. FERC Contact: Steve Kartalia, (202) 502-6131 or stephen.kartalia@ferc.gov.

j. Deadline for filing motions to intervene and protests, comments, recommendations, preliminary terms and conditions, and preliminary fishway prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-1855-050.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. Project Description: The Bellows Falls Project consists of: (1) a 643-foot-long, 30-foot-high concrete dam that includes: (a) two 18-foot-high, 115-foot-wide steel roller gates; (b) two 13-foot-high, 121-foot-wide stanchion flashboards; and (c) a 13-foot-high, 100-foot-wide stanchion flashboard; (2) a 26-mile-long, 2,804-acre impoundment with a useable storage volume of 7,467 acre-feet between elevations 288.63 and 291.63 feet National Geodetic Vertical Datum of 1929 (NGVD 29); (3) a 1,700-foot-long, 36- to 100-foot-wide, 29-foot-deep stone-lined power canal; (4) a 130.25-foot-wide concrete forebay that includes trashracks with 4-inch clear bar spacing; (5) a 186-foot-long, 106-foot-wide, 52-foot-high steel frame, brick powerhouse containing three 13.6-megawatt (MW) vertical Francis turbine-generator units, for a total project capacity of 40.8 MW; (6) three approximately 20-foot-high, 31-foot-wide concrete draft tubes; (7) a 900-foot-long tailrace; (8) a 12-foot-wide, 10-foot-high ice sluice; (9) three 80-foot-long, 6.6-kilovolt generator leads that connect the turbine-generator units to two step-up transformers; (10) a 920-foot-long, 8-foot-wide fishway; (11) a concrete fish barrier dam in the bypassed reach; and (12) appurtenant facilities.

Great River Hydro operates the project in a peaking mode in coordination with its upstream Wilder Project No. 1892 and downstream Vernon Project No. 1904. Average annual generation is approximately 239,070 MW-hours. Great River Hydro is proposing several protection, mitigation, and enhancement measures for aquatic, terrestrial, cultural, recreation resources, and threatened and endangered species, as well as changes to project operation that would reduce impoundment fluctuations and increase the stability of downstream flow releases relative to current project operation, including targeted water surface elevation levels and flow ramping rates. Great River Hydro also proposes to install a new turbine on the downstream side of the spillway that would generate power using the 300-cubic feet per second proposed minimum flow to the bypassed reach. The specific proposed changes are described in the amended application, the settlement agreement filed on August 4, 2022, and the revised relicensing proposal filed on June 8, 2023.

m. A copy of the application can be viewed on the Commission's website at http://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule will be made as appropriate.

Milestone | Target date
Deadline for filing motions to intervene, protests, comments, recommendations, preliminary terms and conditions, and preliminary fishway prescriptions | April 2024.
Deadline for filing reply comments | May 2024.

q. Final amendments to the application must be filed with the Commission no later than 30 days from the issuance date of this notice.

Dated: February 22, 2024.
Debbie-Anne A. Reese,
Acting Secretary.

[FR Doc. 2024-04179 Filed 2-28-24; 8:45 am]

BILLING CODE 6717-01-P